STATE JUSTICE INSTITUTE

SJI Board of Directors Meeting, Notice

AGENCY: State Justice Institute.

ACTION: Notice of meeting.

SUMMARY: The SJI Board of Directors will be meeting on Monday, April 23, 2018 at 1:00 p.m. The meeting will be held at the St. Louis County Courthouse, 105 S. Central Avenue, Clayton, Missouri. The purpose of this meeting is to consider grant applications for the 2nd quarter of FY 2018, and other business. All portions of this meeting are open to the public.

ADDRESSES: St. Louis County Courthouse, 105 S. Central Avenue, Clayton, Missouri 63105.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2018-07461 Filed 4-10-18; 8:45 am]

BILLING CODE P